DEPARTMENT OF TRANSPORTATION

Federal Transit Administration

Early Scoping Notice for an Alternatives Analysis of Proposed Transit Improvements in Ogden-Weber State University Transit Corridor of Ogden, UT

AGENCY: Federal Transit Administration, DOT.

ACTION: Early scoping notice.

SUMMARY: The Federal Transit Administration (FTA) and the Utah Transit Authority (UTA) issue this early scoping notice to advise other agencies and the public that they intend to explore, in the context of the Council on Environmental Quality's early scoping process, methods of improving transit service in the City of Ogden, Utah. The early scoping process is part of a planning Alternatives Analysis (AA) required by Title 49 United States Code (U.S.C.) Sec. 5309 for the selection of alternatives that will be subject to the appropriate environmental process under the National Environmental Policy Act (NEPA). Early scoping meetings have been planned and are announced below.

The Ogden-WSU Transit Corridor Alternatives Analysis is focusing on improving transit service in a 5-mile corridor between downtown Ogden and Weber State University (WSU). The entire study area is located within the City of Ogden, Weber County, Utah. The corridor connects the Ogden Intermodal Center/FrontRunner commuter rail station to the area's major employment, housing, commercial and education destinations, including Downtown Ogden, Weber State University, and McKay Dee Hospital. With the connection to FrontRunner commuter rail, the corridor also serves trips to and from the greater Wasatch Front Region. In 2005, the UTA and its regional partners completed a Major Investment Feasibility Study of the corridor. The 2005 study concluded that a corridor connecting downtown Ogden and WSU was a promising candidate for increased transit capital investment, potentially incorporating streetcar or Bus Rapid Transit service. This study also developed local consensus for an initial statement of the Purpose and Need for the project, and evaluated potential alignments and modes.

The planning Alternatives Analysis now being initiated is expected to result in the selection of a Locally Preferred Alternative by the Utah Transit Authority and its partners, which include the Wasatch Front Regional Council, the metropolitan planning organization for the Greater Salt Lake metropolitan area. Other partners include the City of Ogden, Weber County, Weber State University, McKay Dee Hospital, and the Utah Department of Transportation. The Locally Preferred Alternative will then be a “proposed action,” subject to an appropriate environmental review under the National Environmental Policy Act (NEPA). If the Preferred Alternative is anticipated to have significant impacts, an environmental impact statement (EIS) would be initiated with a Notice of Intent (NOI) in the Federal Register. Public and agency scoping of the EIS would be conducted at that time.

The early scoping notice is intended to generate public comments on the scope of the alternatives analysis. This includes the purpose and need for the project, the range of alternatives, and environmental and community impacts and benefits to be considered in the alternatives analysis.

DATES: Written comments on the scope of the planning Alternatives Analysis, including the alternatives to be considered and the impacts to be assessed should be mailed to Ogden/WSU Transit Corridor Project, c/o Elizabeth Scanlon, UTA, 669 West 200 South, Salt Lake City, UT 84101 or e-mailed to lscanlon@rideuta.com by April 30, 2009.

Early scoping meetings to accept comments on the scope of the Alternatives Analysis will be held on the following dates:

• Tuesday, March 24th, 4 to 7 p.m., Ogden Eccles Conference Center (ground floor-small ballroom), 2415 Washington Blvd. in Ogden.

• Thursday, March 26th, 11 a.m. to 1 p.m., Weber State University Student Union Bldg (second level-main auditorium), 1217 University Circle in Ogden.

Scoping materials for these meeting will be provided at the meeting sites and are available on UTA's Web site at http://rideuta.com. Scoping materials include the draft purpose and need for the project and the initial set of alternatives proposed for study. The buildings and facilities used for the scoping meetings are accessible to persons with disabilities. Any individual who requires special assistance, such as a sign language interpreter, to participate in scoping should contact Elizabeth Scanlon, UTA at 801-236-4706 or lscanlon@rideuta.com. Hard copies of the scoping materials are also available.

An interagency scoping meeting will be held on Tuesday, April 21st from 3:30 to 4:30 p.m. at Weber Center, 2380 Washington Blvd, Suite 359 in Ogden. Representatives of Native American tribal governments and of all Federal, State and local agencies that may have an interest in any aspect of the project will be invited.

In addition to the early scoping meetings, additional agency and public scoping meetings may be required under NEPA if the Preferred Alternative is determined to potentially have significant environmental impacts and an EIS is required. The dates and locations for EIS scoping meetings would be included in a Notice of Intent (NOI) to prepare an EIS and would be advertised in the same manner as this Early Scoping Notice.

ADDRESSES: Written comments on this Early Scoping Notice should be mailed to Ogden/WSU Transit Corridor Project, c/o Elizabeth Scanlon, UTA, 669 West 200 South, Salt Lake City, UT 84101 or e-mailed to lscanlon@rideuta.com. UTA also accepts written comments through its Web site at http://rideuta.com.

FOR FURTHER INFORMATION CONTACT: Utah Transit Authority—lscanlon@rideuta.com.

Federal Transit Administration—david.beckhouse@dot.gov.

SUPPLEMENTARY INFORMATION:

Early Scoping

The FTA and UTA invite all interested individuals and organizations, public agencies, and Native American tribes to comment on the scope of the Ogden-Weber State University Transit Corridor Alternatives Analysis, including the purpose and need for transit improvements in the corridor, the alternatives to be considered, and the types of impacts to be evaluated. Comments at this time should focus on the purpose and need for transit improvements in the corridor; alternatives that may be less costly or have less environmental impact while achieving similar transportation objectives; and, the identification of any significant social, economic, or environmental issues that should be considered in developing the alternatives. Early scoping is an optional element of the National Environmental Policy Act (NEPA) process that is particularly useful in situations where, as here, a proposed action (the locally preferred alternative) has not been identified and alternative modes and major alignment variations are under consideration in a broadly-defined corridor.

Purpose and Need for Action

The purpose of the Ogden-Weber State University Transit Corridor Project is to provide high-quality transit service that:

(1) Improves the level of service and transit ridership between the Ogden Intermodal Center, the Ogden Central Business District, Weber State University, and McKay-Dee Hospital;

(2) assists the City of Ogden in achieving vital economic and community development goals; and,

(3) is affordable, enjoys wide public support, and encourages local partnerships.

Alternatives

A range of alternatives is being considered including various transit technologies, corridor alignments, configurations and operations, station types and locations, and Transportation Systems Management (TSM) improvements. In addition to these various types of actions, the implications of a No-Action alternative will be considered in the analysis. The following summarizes the general types of alternatives to be considered in the analysis, understanding that a variety of possible alternatives, and combinations thereof, will be initially identified and then undergo screening to define the alternatives for advancement to the environmental evaluation process. Further description of this process is provided below under FTA Procedures.

The initial set of transit modal alternatives to be evaluated in the Alternatives Analysis include:

—A streetcar alternative that features frequent rail service running primarily within local street rights-of-way, either in dedicated or shared lanes, with stations placed along the alignment to serve important origins/destinations and maintain competitive trip times for end-end users.

—A Bus Rapid Transit alternative that features low-floor bus vehicles providing fast, reliable and frequent service in both directions, using either dedicated or shared lanes serving stations along the alignment.

—Station alternatives, including terminus stations at both ends of the line, including a regional park and ride at/near WSU and a platform-platform connection with FrontRunner and other services at the Ogden Intermodal Center.

—An array of alignments providing the connections to the major markets to be served. These include a general alignment that begins at the Intermodal Center in downtown Ogden and then down to Washington Boulevard, turning east at 26th Street and then to Harrison Boulevard and south to Weber State University to approximately 46th Street. Other options include an alignment from the Intermodal Center and then to Washington Boulevard and continuing south to 30th Street or 36th Street, and then traveling east to Harrison Boulevard and south to 46th Street. (A map of the alignments is posted on http://www.rideuta.com under the “Projects” tab.). Other variations to these general alignments being considered would include entering the Weber State University campus roadway system and providing service directly to the McKay-Dee Hospital. Determining whether the Bus Rapid Transit or Streetcar alignments and stations would operate in their own lanes or in shared lanes will be decided, and if they would be in a protected median in the center of a roadway or running along the side of a roadway.

—Future No-Action Alternative. The study will consider the transportation and environmental effects if no new major transit investments are implemented in this corridor. This alternative will include the highway and transit projects in the current Wasatch Front Regional Council Transportation Plan Update 2007-2030.

—Transportation System Management (TSM) Alternative—The study will consider the effects of modest improvements in the highway and transit systems beyond those in the Future No-Action Alternative. The TSM Alternative would evaluate low-cost enhancements to the Future No-Action Alternative and would emphasize transportation system upgrades such as intersection improvements, minor road widening, traffic engineering actions, bus route restructuring, more frequent bus service, and other transit service improvements that do not require major capital investments.

In addition to the alternatives described above, other reasonable alternatives identified through the early scoping process will be considered for potential inclusion in the planning Alternatives Analysis, with reasonable meaning the technology is proven and currently implemented.

FTA Procedures

UTA may seek Small Starts funding for the proposed project under 49 U.S.C. Sec. 5309 and will, therefore, be subject to Smalls Starts regulation (49 Code of Federal Regulations [CFR] part 611). The Small Starts regulations require a planning Alternatives Analysis that leads to the selection of a Locally Preferred Alternative by UTA and its partners, and the inclusion of the locally preferred alternative in the long-range transportation plan adopted by the Wasatch Front Regional Council. The planning Alternatives Analysis will examine alignments, technologies, station locations, costs, funding, ridership, economic development, land use, engineering feasibility, and environmental factors in the corridor. The Small Starts regulation also requires the submission of certain project-justification information in support of a request to initiate preliminary engineering. After the identification of a proposed action at the conclusion of the planning Alternatives Analysis, the appropriate NEPA documentation shall be determined by the FTA. If preparation of an Environmental Impact Statement is warranted, a NOI will be published in the Federal Register and the scoping of the EIS will be completed by soliciting and considering comments on the purpose and need for the proposed action, the range of alternatives to be considered in the EIS, and the potentially significant environmental and community impacts to be evaluated in the EIS.

A plan for coordinating public and agency participation in the environmental review process and for commenting on the issues under consideration at various milestones of the process will be prepared and posted on the UTA Web site at http://www.rideuta.com (under the “Projects” tab).

Issued on: March 2, 2009.
Terry J. Rosapep,
Regional Administrator.

[FR Doc. E9-4996 Filed 3-9-09; 8:45 am]

BILLING CODE 4910-57-P